DEPARTMENT OF ENERGY

Federal Energy Regulatory Commission

[Docket Nos. ER00-3591-000, ER00-1969-001, ER01-94-000, and ER01-180-000]

New York Independent System Operator, Inc.; Supplemental Notice of Technical Conference

January 11, 2001.

The December 11, 2000, notice in this proceeding indicated that a technical conference will be held on January 22 and 23, 2001. That conference will be held in Hearing Rooms 5 and 6 (which will be combined to form one large room) at the offices of the Federal Energy Regulatory Commission, 888 First Street, NE., Washington, DC 20426. The conference will commence at 9:30 a.m. on January 22, 2001.

The agenda for the conference is set forth below. To facilitate efficient discussion, the various industry sectors should designate a spokesperson for their sector, although additional views may be stated as necessary. By 5:00 p.m. on January 18, 2001, participants should inform Stanley Wolf at 202-208-0891 or stanley.wolf@ferc.fed.us or Penny Murrell at 202-208-0531 or penny.murrell@ferc.fed.us, who the spokesperson for the industry sectors are, and for which sessions/topics listed below. If the industry sector cannot reach consensus on its selection of spokespersons, members of that sector may separately inform Mr. Wolf or Ms. Murrell of their selections. Staff may select some or all of these to participate in the discussions. Rather than repeat at length prior pleadings, spokespersons are requested to merely refer to such pleadings where appropriate.

David P. Boergers,
Secretary.

Technical Conference Schedule

Day 1: Morning Session 9:30-12:30

I. State of the Markets—Panel—3 hours

This panel will be comprised of a representative from each sector including, NYISO, Transmisison Owners, the Public Service Commission of New York State, Generators, Power Marketers, Endusers, and Public Power and Environment. The discussion will focus on the overall state of NYISO's markets; how things are going overall; whether the markets are generally working; what the major problems are in the markets; whether there are structural issues; whether there are any major problems with market rules and, if so, the solutions to the problems. This session will include a presentation by NYISO's Project Priority Team on the current status of its efforts to identify and assign priorities to the tasks facing the NYISO, focusing on preparations for the Summer 2001.

Lunch

Day 1: Afternoon Session 1:30-6:00

II. Energy Markets: What needs to be in place by Summer 2001? 3½ hours

This session will start with a presentation by NYISO on the changes that are proposed to be in place by Summer 2001. Discussions can include the details of the specific projects and whether the priorities proposed for theses projects are reasonable. The discussion may include the following topics:

NYISO “hybrid” fixed block generation pricing proposal

Out of merit commitment

Prorata curtailments

System security and adequacy during Summer 2001

Other reliability concerns

NOX issues

Demand Response Mechanism

Billing issues

Data posting requirements

Communication and market information issues

III. Non-Spinning Reserves Markets—1 hour

This presentation will begin with a presentation by NYISO regarding the state of its NSR markets and the projects underway to make this a more competitive market. Discussions will follow concerning the short-term and long-term problems associated with these markets and the changes that are necessary to address these problems. Topics include:

Competitiveness of 10-minute non-spinning reserves markets

Physical self-supply of operating reserves

Use of western resources to meet operating reserves requirements

Locational pricing

Day 2: Morning Session 9:30-12:00

IV. Market Protection Measures—2½ hours

This session will include a presentation by NYISO regarding the use of its authority under its TEP. Discussions should follow regarding the extent of NYISO's price corrections and issuances of Extraordinary Corrective Actions (ECAs) under this authority and whether certain authority of the TEP should continue temporarily or if certain authority should be made a permanent part of the tariff. Participants may also discuss participant proposals concerning various market protection measures such as: circuit breaker, bid caps, in-city mitigation, and expanded rate correction authority

Lunch

Day 2: Afternoon Session 1:00-4:30

V. Energy Markets: Longer-term Fixes—2 hours

This session will start with a presentation by NYISO regarding the longer term changes necessary in its energy markets. Discussions can focus on the projects that will need to be in place in the longer term and whether the priorities established for these changes are reasonable. Topics include:

Central East constraint

Generation

Seams Issues (RTOs)—Impact of NYISO practices and procedures on regional transactions

Balancing Market Evaluation (BME) performance and improvements

Virtual bidding, trading hubs and other proposals enhancing liquidity

VI. Next Steps—1½ hours

This session will be used to finalize a list of priorities for projects in the energy and NSR markets and to establish deadlines for their completion. This session will also be used to establish any further procedures required, including setting dates for initial and reply comments.

[FR Doc. 01-1418 Filed 1-17-01; 8:45 am]

BILLING CODE 6717-01-M